FEDERAL COMMUNICATIONS COMMISSION

Notice of Public Information Collection(s) Being Reviewed by the Federal Communications Commission for Extension Under Delegated Authority, Comments Requested

October 3, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 11, 2000. If you anticipate that you will be submitting comments, but find it difficult to do so within the period of time allowed by this notice, you should advise the contact listed below as soon as possible.

ADDRESSES: Direct all comments to Les Smith, Federal Communications Commission, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0745.

Title: Implementation of the Local Exchange Carrier Tariff Streamlining Provisions in the Telecommunications Act of 1996, CC Docket No. 96-187.

Form No.: N/A.

Type of Review: Extension.

Respondents: Business or Other for Profit.

Number of Respondents: 1520.

Estimated Time Per Response: .75 hrs (avg.).

Total Annual Burden: 1150.

Estimated Annual Reporting and Recordkeeping Cost Burden: $5,100,000.

Frequency of Response: On occasion; Recordkeeping; Third Party Disclosure.

Needs and Uses: In CC Docket No. 96-187, the Commission adopted measures to implement the specific streamlining tariff filing requirements for local exchange carriers. Incumbent LECs must use the Common Carrier Bureau's electronic tariff filing system to file tariffs and associated documents officially. EFTS is not limited to mandatory filing by incumbent LECs. Other parties may also file documents in tariff proceedings by means of ETFS.

OMB Control No.: 3060-0782.

Title: Petitions for Limited Modification of LATA Boundaries to Provide Expanded Local Calling Service (ELS) at Various Locations.

Form No.: N/A.

Type of Review: Extension.

Respondents: Business or Other for Profit.

Number of Respondents: 20.

Estimated Time Per Response: 40 hrs (avg.).

Total Annual Burden: 800.

Estimated Annual Reporting and Recordkeeping Cost Burden: $0.

Frequency of Response: On occasion.

Needs and Uses: The Commission has provided voluntary guidelines for filing expanded local calling service requests. The collection of information will enable the Commission to determine if there is a public need for expanded local calling service in each area subject to the request.

OMB Control No.: 3060-0786.

Title: Petitions for LATA Association changes by Independent Telephone Companies.

Form No.: N/A.

Type of Review: Extension.

Respondents: Business or Other for Profit.

Number of Respondents: 20.

Estimated Time Per Response: 6 hrs (avg.).

Total Annual Burden: 120 hours.

Estimated Annual Reporting and Recordkeeping Cost Burden: $0.

Frequency of Response: On occasion.

Needs and Uses: The Commission has provided voluntary guidelines for filing LATA association change requests. These guidelines will allow the Commission to conduct smooth and continuous processing of these requests. The collection of information will enable the Commission to determine if there is a public need for changes in LATA associated in each area subject to the request.

Federal Communications Commission.
Magalie Roman Salas,
Secretary.

[FR Doc. 00-25984 Filed 10-10-00; 8:45 am]

BILLING CODE 6712-01-U